DEPARTMENT OF ENERGY

Federal Energy Regulatory Commission

Combined Notice of Filings #1

Take notice that the Commission received the following electric rate filings:

Docket Numbers: ER10-2331-051; ER14-630-026; ER10-2319-042; ER10-2317-042; ER13-1351-024; ER10-2330-049.

Applicants: J.P. Morgan Ventures Energy Corporation, AlphaGen Power LLC, BE Alabama LLC, BE CA LLC, Florida Power Development LLC, Utility Contract Funding, L.L.C.

Description: Non-Material Change in Status of the J.P. Morgan Sellers.

Filed Date: 1/19/16.

Accession Number: 20160119-5403.

Comments Due: 5 p.m. ET 2/9/16.

Docket Numbers: ER12-839-002; ER15-1657-002.

Applicants: Entergy Rhode Island State Energy, L.P., SEPG Energy Marketing Services, LLC.

Description: Notice of Non-Material Change in Status of Entergy Rhode Island State Energy, L.P., et al.

Filed Date: 1/15/16.

Accession Number: 20160115-5686.

Comments Due: 5 p.m. ET 2/5/16.

Docket Numbers: ER15-793-001.

Applicants: Southern Indiana Gas and Electric Company.

Description: Market-Based Triennial Review Filing: Supplement to SIGECO/Vectren South Triennial MBR Update in ER15-793 to be effective 3/19/2016.

Filed Date: 1/19/16.

Accession Number: 20160119-5298.

Comments Due: 5 p.m. ET 2/9/16.

Docket Numbers: ER15-1862-000.

Applicants: Tucson Electric Power Company.

Description: Report Filing: Response to Deficiency Letter to be effective N/A.

Filed Date: 1/19/16.

Accession Number: 20160119-5258.

Comments Due: 5 p.m. ET 2/9/16.

Docket Numbers: ER15-2256-001.

Applicants: Midcontinent Independent System Operator, Inc.

Description: Compliance filing: 2016-01-19 Order 809 Compliance Filing to be effective 11/5/2016.

Filed Date: 1/19/16.

Accession Number: 20160119-5274.

Comments Due: 5 p.m. ET 2/9/16.

Docket Numbers: ER15-2615-002.

Applicants: Goodwell Wind Project, LLC.

Description: Compliance filing: Goodwell Wind Project, LLC MBR Tariff to be effective 10/1/2015.

Filed Date: 1/19/16.

Accession Number: 20160119-5339.

Comments Due: 5 p.m. ET 2/9/16.

Docket Numbers: ER16-139-001.

Applicants: Southwest Power Pool, Inc.

Description: Tariff Amendment: Deficiency Response in ER16-139—Revisions to Attachment W to Update GFAs to be effective 1/1/2016.

Filed Date: 1/19/16.

Accession Number: 20160119-5272.

Comments Due: 5 p.m. ET 2/9/16.

Docket Numbers: ER16-745-000.

Applicants: Duke Energy Carolinas, LLC.

Description: Section 205(d) Rate Filing: NCEMC Energy Exchange Agreement RS No. 347 to be effective 3/21/2016.

Filed Date: 1/19/16.

Accession Number: 20160119-5340.

Comments Due: 5 p.m. ET 2/9/16.

Docket Numbers: ER16-746-000.

Applicants: Constellation Power Source Generation, LLC.

Description: Section 205(d) Rate Filing: FERC Rate Schedule No. 2 to be effective 2/1/2016.

Filed Date: 1/19/16.

Accession Number: 20160119-5341.

Comments Due: 5 p.m. ET 2/9/16.

Docket Numbers: ER16-747-000.

Applicants: PJM Interconnection, L.L.C.

Description: Section 205(d) Rate Filing: Original Service Agreement No. 4355; Queue Z2-011 (ISA) to be effective 12/21/2015.

Filed Date: 1/20/16.

Accession Number: 20160120-5005.

Comments Due: 5 p.m. ET 2/10/16.

Docket Numbers: ER16-748-000.

Applicants: Sentinel Energy Center, LLC.

Description: Section 205(d) Rate Filing: Notice of Succession to be effective 12/21/2015.

Filed Date: 1/20/16.

Accession Number: 20160120-5016.

Comments Due: 5 p.m. ET 2/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 20, 2016.
Nathaniel J. Davis, Sr.,
Deputy Secretary.

[FR Doc. 2016-01462 Filed 1-25-16; 8:45 am]

BILLING CODE 6717-01-P